DEPARTMENT OF COMMERCE

Bureau of Industry and Security

Materials Technical Advisory Committee; Notice of Partially Closed Meeting

The Materials Technical Advisory Committee will meet on October 11, 2007, 10:30 a.m., Herbert C. Hoover Building, Room 3884, 14th Street between Constitution and Pennsylvania Avenues, NW., Washington, DC. The Committee advises the Office of the Assistant Secretary for Export Administration with respect to technical questions that affect the level of export controls applicable to materials and related technology.

Agenda

Public Session

1. Opening Remarks and Introduction.

2. Presentation on Nanostructures and Discussion.

3. Composite Working Group Update on Proposals.

4. Export Control Classification Number Review Working Group Co-chairs Comments.

5. Regulatory Changes from Australia Group Plenary.

6. Export Control Classification Number Review Evaluation, Follow up, and Assignments.

7. Federal Register Notice for Comments on the Commerce Control List, Open Until November 1, 2007.

8. Comments from Teleconferences.

Closed Session

9. Discussion of matters determined to be exempt from the provisions relating to public meetings found in 5 U.S.C. app. 2 §§ 10(a)(1) and 10(a)(3).

The open session will be accessible via teleconference to 20 participants on a first come, first serve basis. To join the conference, submit inquiries to Ms. Yvette Springer at Yspringer@bis.doc.gov no later than October 3, 2007.

A limited number of seats will be available during the public session of the meeting. Reservations are not acceptable. To the extent time permits, members of the public may present oral statements to the Committee. Written statements may be submitted at any time before or after the meeting. However, to facilitate distribution of public presentation materials to Committee members, the materials should be forwarded prior to the meeting to Ms. Springer via e-mail.

The Assistant Secretary for Administration, with the concurrence of the delegate of the General Counsel, formally determined on September 5, 2007, pursuant to Section 10(d) of the Federal Advisory Committee Act, as amended, that the portion of the meeting dealing with matters the premature disclosure of which would likely frustrate the implementation of a proposed agency action as described in 5 U.S.C. 552b(c)(9)(B) shall be exempt from the provisions relating to public meetings found in 5 U.S.C. app. 2 §§ 10(a)(1) and 10(a)(3). The remaining portions of the meeting will be open to the public.

For more information, call Yvette Springer at (202) 482-2813.

Dated: September 25, 2007.
Yvette Springer,
Committee Liaison Officer.

[FR Doc. 07-4776 Filed 9-27-07; 8:45 am]

BILLING CODE 3510-JT-M